DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the names of one or more persons whose property and interests in property have been unblocked and who have been removed from the Specially Designated Nationals and Blocked Persons List (SDN List).

DATES: See SUPPLEMENTARY INFORMATION section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

A. On February 28, 2024, OFAC determined that the property and interests in property subject to U.S. jurisdiction of the following persons are blocked under the relevant sanctions authority listed below.

Individuals

1. MORALES CIFUENTES, Juan Jose (a.k.a. “PANCHO”), Colonia 3 de mayo, Tecun Uman, San Marcos, Guatemala; DOB 09 Apr 1990; POB San Marcos, Guatemala; nationality Guatemala; Gender Male; Cedula No. L-1238436 (Guatemala); NIT # 59536969 (Guatemala); C.U.I. 2755498951217 (Guatemala) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

2. OCHOA VILLAGRAN, Erick Manuel (a.k.a. “PERICA”), Guatemala; DOB 01 Jun 1985; POB San Marcos, Guatemala; nationality Guatemala; Gender Male; Cedula No. L-1247674 (Guatemala); C.U.I. 1680324221213 (Guatemala) (individual) [ILLICIT-DRUGS-EO14059].

Designated pursuant to section 1(a)(i) of E.O. 14059 for having engaged in, or attempted to engage in, activities or transactions that have materially contributed to, or pose a significant risk of materially contributing to, the international proliferation of illicit drugs or their means of production.

3. SUNIGA MORFIN, Isel Aneli (Latin: SUÑIGA MORFÍN, Isel Aneli), 4ta Calle, Tecun Uman, Ayutla, San Marcos 12017, Guatemala; DOB 07 Sep 1994; POB Ayutla, San Marcos, Guatemala; nationality Guatemala; Gender Female; NIT # 83524479 (Guatemala); C.U.I. 2517372251217 (Guatemala) (individual) [ILLICIT-DRUGS-EO14059] (Linked To: LOS POCHOS DRUG TRAFFICKING ORGANIZATION).

Designated pursuant to section 1(b)(iii) of E.O. 14059 for being owned, controlled, or directed by, or having acted or purported to act for or on behalf of, directly or indirectly, Los Pochos Drug Trafficking Organization, a person sanctioned pursuant to E.O. 14059.

Entities

1. CONDADO REAL, 5a Avenida, Zona 1, Tecun Uman, San Marcos, Guatemala; Organization Established Date 26 Dec 2018; Organization Type: Real estate activities on a fee or contract basis; NIT # 83524479 (Guatemala) [ILLICIT-DRUGS-EO14059] (Linked To: SUNIGA MORFIN, Isel Aneli).

Designated pursuant to section 1(b)(iii) of E.O. 14059 for being owned, controlled, or directed by, or having acted or purported to act for or on behalf of, directly or indirectly, Isel Aneli Suniga Morfin, a person sanctioned pursuant to E.O. 14059.

2. CONSTRUHOGAR, San Marcos, Guatemala; Organization Type: Wholesale of construction materials, hardware, plumbing and heating equipment and supplies; NIT # 59536969 (Guatemala) [ILLICIT-DRUGS-EO14059] (Linked To: MORALES CIFUENTES, Juan Jose).

Designated pursuant to section 1(b)(iii) of E.O. 14059 for being owned, controlled, or directed by, or having acted or purported to act for or on behalf of, directly or indirectly, Juan Jose Morales Cifuentes, a person sanctioned pursuant to E.O. 14059.

3. IMPORTADORA JIREH, San Marcos, Guatemala; Organization Established Date 08 Sep 2017; Organization Type: Sale of motor vehicles; NIT # 59536969 (Guatemala) [ILLICIT-DRUGS-EO14059] (Linked To: MORALES CIFUENTES, Juan Jose).

Designated pursuant to section 1(b)(iii) of E.O. 14059 for being owned, controlled, or directed by, or having acted or purported to act for or on behalf of, directly or indirectly, Juan Jose Morales Cifuentes, a person sanctioned pursuant to E.O. 14059.

4. LOS POCHOS DRUG TRAFFICKING ORGANIZATION (a.k.a. “LOS POCHOS DTO”; a.k.a. “MORALES CIFUENTES DRUG TRAFFICKING ORGANIZATION”; a.k.a. “MORALES CIFUENTES DTO”; a.k.a. “SUNIGA RODRIGUEZ DRUG TRAFFICKING ORGANIZATION” (Latin: “SUÑIGA RODRIGUEZ DRUG TRAFFICKING ORGANIZATION”)), Ayutla, San Marcos, Guatemala; Tecun Uman, Guatemala; Guatemala City, Guatemala; Tapachula, Mexico; Mexico City, Mexico; Target Type Criminal Organization [SDNTK] [ILLICIT-DRUGS-EO14059].

Designated pursuant to section 1(a)(i) of E.O. 14059 for having engaged in, or attempted to engage in, activities or transactions that have materially contributed to, or pose a significant risk of materially contributing to, the international proliferation of illicit drugs or their means of production.

5. WIV, SOCIEDAD ANONIMA (a.k.a. “WIV S.A.”; a.k.a. “WIVSA”), Aldea Los Angeles, Zona 0 Carretera, Tecun Uman, San Marcos, Guatemala; Organization Established Date 09 Dec 2015; Organization Type: Other business support service activities n.e.c.; NIT # 92345093 (Guatemala) [ILLICIT-DRUGS-EO14059] (Linked To: SUNIGA MORFIN, Isel Aneli).

Designated pursuant to section 1(b)(iii) of E.O. 14059 for being owned, controlled, or directed by, or having acted or purported to act for or on behalf of, directly or indirectly, Isel Aneli Suniga Morfin, a person sanctioned pursuant to E.O. 14059.

B. On February 28, 2024, OFAC determined that the property and interests in property subject to U.S. jurisdiction of the following persons are unblocked and they have been removed from the SDN List.

Individuals

1. PARADA RODRIGUEZ, Alex Oswaldo (Latin: PARADA RODRÍGUEZ, Alex Oswaldo) (a.k.a. “LA PANTERA”), 1 Calle 2 Ave. 1-15, Zona 1, Tecun Uman, Ayutla, San Marcos, Guatemala; DOB 15 Aug 1969; POB Tiquisate, Escuintla, Guatemala; nationality Guatemala; Gender Male; Cedula No. L-1220627 (Guatemala); NIT # 66865883 (Guatemala); C.U.I. 1916038210506 (Guatemala) (individual) [SDNTK] (Linked To: SUNIGA RODRIGUEZ DRUG TRAFFICKING ORGANIZATION; Linked To: CEVICHERIA LA CONCHA).

2. SUNIGA RODRIGUEZ, Erik Salvador (Latin: SUÑIGA RODRÍGUEZ, Erik Salvador) (a.k.a. ZUNIGA RODRIGUEZ, Erick Salvador (Latin: ZÚÑIGA RODRÍGUEZ, Erick Salvador); a.k.a. “EL POCHO”), Caserio Las Delicias, Ayutla, San Marcos, Guatemala; DOB 19 Nov 1975; POB La Nueva Concepcion, Escuintla, Guatemala; nationality Guatemala; Gender Male; Cedula No. L1225520 (Guatemala); Passport 199573956 (Guatemala); NIT # 7174713 (Guatemala); Driver's License No. 1995739560513 (Guatemala); C.U.I. 1995739560513 (Guatemala) (individual) [SDNTK].

Entities

1. CEVICHERIA LA CONCHA, Aldea Sanjon San Lorenzo, Tecun Uman, Ayutla, San Marcos, Guatemala; NIT # 6686588-3 (Guatemala) [SDNTK].

Dated: February 28, 2024.
Bradley T. Smith,
Director, Office of Foreign Assets Control, U.S. Department of the Treasury.

[FR Doc. 2024-04488 Filed 3-1-24; 8:45 am]

BILLING CODE 4810-AL-P